OFFICE OF PERSONNEL MANAGEMENT

Submission for OMB Emergency Review and 60-Day Notice for Comment for Existing Information Collection Requests

AGENCY: Office of Personnel Management (OPM).

ACTION: Notice.

SUMMARY: The Office of Personnel Management (OPM) has submitted to the Office of Management and Budget (OMB) a request for emergency clearance and review for existing information collection requests for the following OPM surveys: Customer Satisfaction Survey; Organizational Assessment Survey, Federal Employee Viewpoint Survey, Exit Survey, and New Leaders Onboarding Assessment; and the OPM Leadership 360™. Approval of these surveys is necessary to collect information on Federal agency performance, climate, engagement, and leadership effectiveness. This also serves as the 60-Day Notice for review for full clearance.

DATES: Comments will be accepted until July 5, 2017.

ADDRESSES: Send or deliver comments to: Andrea Zappone, HR Strategy and Evaluation Solutions, U.S. Office of Personnel Management, 1900 E Street NW., Washington, DC 20415.

For Information Regarding Administrative Coordination Contact: Charles Cutshall, Office of Management and Budget, Office of Information and Regulatory Affairs, New Executive Office Building NW., Room 10235, Washington, DC 20503.

SUPPLEMENTARY INFORMATION: Emergency clearance is requested given the current forms (Customer Satisfaction Survey (OMB No. 3206-0236); Organizational Assessment Survey, Federal Employee Viewpoint Survey, Exit Survey, and New Leaders Onboarding Assessment (OMB No. 3206-0252); and the OPM Leadership 360™ (3206-0253)) expire July 31, 2017 and continuation of operations is necessary. We respectfully request OMB take action within 5 calendar days from the close of this Federal Register Notice on the request for emergency review. During the six-month extension, approximately 30,000 non-Federal respondents will complete the Customer Satisfaction Survey, 23,000 will complete one of the organizational assessments, and 2,000 will complete the OPM Leadership 360™. We estimate it will take 7 minutes on average to complete a Customer Satisfaction Survey; 13 minutes to complete one of the organizational assessments; and 15 minutes to complete an OPM Leadership 360™. Electronic submissions are processed through secure government Web sites maintained by OPM. The total estimated burden is 8,983 hours (3,500 for the Customer Satisfaction Survey; 4,983 for the organizational assessments; and 500 for the OPM Leadership 360™).

Comments are particularly invited on:

• whether this information is necessary and will have practical utility for the proper performance of functions of the Office of Personnel Management and its client agencies on whose behalf the Office Personnel Management administers the surveys;

• whether our estimate of the public burden of these collections of information is accurate, and based on valid assumptions and methodology; and

• ways in which we can minimize the burden of these collections of information on those who are to respond, through the use of appropriate technological collection techniques or other forms of information technology.

For copies of this proposal, contact Human Resources Strategy and Evaluation Solutions, Office of Personnel Management, 1900 E. Street NW., Washington, DC 20415, Attention: Andrea Zappone, or via email to Organizational_Assessment@OPM.gov. Please include your complete mailing address or email address with your request.

Kathy McGettigan,
Acting Director, US Office of Personnel Management.

[FR Doc. 2017-09069 Filed 5-4-17; 8:45 am]

BILLING CODE 6325-38-P